DEPARTMENT OF HEALTH AND HUMAN SERVICES

Centers for Disease Control and Prevention

Disease, Disability, and Injury Prevention and Control Special Emphasis Panel: NIOSH Education and Research Center, Program Announcement Number (PAR) 06-485

In accordance with section 10(a)(2) of the Federal Advisory Committee Act (Pub. L. 92-463), the Centers for Disease Control and Prevention (CDC) announces the aforementioned meeting.

Times and Dates: 8 a.m.—5:30 p.m., February 21, 2008 (Closed). 8 a.m.—5:30 p.m., February 22, 2008 (Closed).

Place: Marriott Marina del Rey, 4100 Admiralty Way, Marina del Rey, California 90292, Telephone (310) 301-3000.

Status: The meeting will be closed to the public in accordance with provisions set forth in section 552b(c)(4) and (6), Title 5 U.S.C., and the Determination of the Director, Management Analysis and Services Office, CDC, pursuant to Public Law 92-463.

Purpose: The work groups convening at specific sites listed below advise and make recommendations to the Disease, Disability, and Injury Prevention and Control SEP: NIOSH Education and Research Center, PAR 06-485. Specifically, the SEP makes recommendations regarding policies, strategies, and funding.

Times, Dates, and Places of the Work Group Meetings:

8 a.m.-5:30 p.m | October 4-5, 2007 (Closed) | Harvard University, School of Public Health, 677 Huntington Avenue, Kresge Building Room 110, Boston, MA.
8 a.m.—5:30 p.m | October 18-19, 2007 (Closed) | The University of Iowa, Rooms 123 and 125 IREH, Iowa City, IA 52242, Telephone (319) 335-4415.
8 a.m.—5:30 p.m | November 15-16, 2007 (Closed) | The University of Illinois at Chicago, Marriott at Medical District/UIC, 625 South Ashland Ave. at Harrison Street, Chicago, IL 60607, Telephone (312) 491-1234.
8 a.m.—5:30 p.m | December 6-7, 2007 (Closed) | The University of Michigan, Bell Tower Hotel, 300 S. Thayer St., Ann Arbor, MI, 48104, Telephone (734) 769-3010.
8 a.m.—5:30 p.m | January 10-11, 2007 (Closed) | The University of South Florida, College of Public Health, Room 2016, 13201 Bruce Downs Blvd., Tampa, FL 33620, Telephone (813) 794-1120.

Matters To Be Discussed: The SEP meeting will include the review, discussion, and evaluation of research grant applications in response to “NIOSH Education and Research Center,” PAR 06-485.

For Further Information Contact: Dr. M. Chris Langub, Designated Federal Officer, 1600 Clifton Road NE., MS E74, Atlanta, GA 30333, Telephone 404.498.2543.

The Director, Management Analysis and Services Office, has been delegated the authority to sign Federal Register notices pertaining to announcements of meetings and other committee management activities, for both CDC and the Agency for Toxic Substances and Disease Registry.

Dated: September 13, 2007.
Elaine L. Baker,
Acting Director, Management Analysis and Services Office, Centers for Disease Control and Prevention.

[FR Doc. E7-18483 Filed 9-18-07; 8:45 am]

BILLING CODE 4163-18-P